LIBRARY OF CONGRESS

Copyright Royalty Board

[Docket No. 2008-2 CRB CD 2000-2003]

Distribution of 2000, 2001, 2002, and 2003 Cable Royalty Funds

AGENCY: Copyright Royalty Board, Library of Congress.

ACTION: Notice announcing commencement of Phase I proceeding with request for Petitions to Participate.

SUMMARY: The Copyright Royalty Judges are announcing the commencement of a proceeding to determine the Phase I distribution of 2000, 2001, 2002, and 2003 royalties collected under the cable statutory license. The Judges are also announcing the date by which a party who wishes to participate in this distribution proceeding must file its Petition to Participate and the accompanying $150 file fee.

DATES: Petitions to Participate and the filing fee are due on or before May 2, 2008.

ADDRESSES: An original, five copies, and an electronic copy in Portable Document Format (PDF) on a CD of the Petition to Participate, along with the $150 filing fee, may be delivered to the Copyright Royalty Board by either mail or hand delivery. Petitions to Participate and the $150 filing fee may not be delivered by an overnight delivery service other than the U.S. Postal Service Express Mail. If by mail (including overnight delivery), Petitions to Participate, along with the $150 filing fee, must be addressed to: Copyright Royalty Board, P.O. Box 70977, Washington, DC 20024-0977. If hand delivered by a private party, Petitions to Participate, along with the $150 filing fee, must be brought to the Library of Congress, James Madison Memorial Building, LM-401, 101 Independence Avenue, SE., Washington, DC 20559-6000. If delivered by a commercial courier, Petitions to Participate, along with the $150 filing fee, must be delivered to the Congressional Courier Acceptance Site, located at 2nd and D Street, NE., Washington, DC. The envelope must be addressed to: Copyright Royalty Board, Library of Congress, James Madison Memorial Building, LM-403, 101 Independence Avenue, SE., Washington, DC 20559-6000.

FOR FURTHER INFORMATION CONTACT: LaKeshia Brent, CRB Program Specialist, by telephone at (202) 707-7658 or e-mail at crb@loc.gov.

SUPPLEMENTARY INFORMATION:

Background

Each year, semiannually, cable systems must submit royalty payments to the Copyright Office as required by the cable statutory license for the privilege of retransmitting over-the-air television and radio broadcast signals. 17 U.S.C. 111. These royalties are then distributed to copyright owners whose works were included in such retransmissions and who timely filed a claim for royalties. Distribution of the royalties for each calendar year are determined by the Copyright Royalty Judges (“Judges”) in two phases. At Phase I, the royalties are divided among the representatives of the major categories of copyrightable content (movies, sports programming, music, etc.) requesting the distribution. At Phase II, the royalties are divided among the various copyright owners within each category.

This Notice announcing the commencement of a proceeding under 17 U.S.C. 803(b)(1) for distribution of cable royalties collected for 2000, 2001, 2002, and 2003 is confined to Phase I.

Commencement of Phase I Proceeding

Consistent with 17 U.S.C. 804(b)(8), the Copyright Royalty Judges determine that a Phase I controversy exists as to the distribution of the 2000, 2001, 2002, and 2003 cable royalties. We reach this determination, in this instance, for two reasons. First, several interested parties have represented to us that a Phase I controversy exists for these years. See, e.g., comments filed by the following parties on September 19, 2007 in Docket No. 2005-3 CRB CD 2003:¹ the National Association of Broadcasters, the Joint Sports Claimants, Devotional Claimants, Canadian Claimants Group, Public Television Claimants. Second, to date we have not received notification that any settlements have been reached for any of these years, nor have we received motions for final distribution.

¹ For the reasons discussed herein, the Copyright Royalty Judges are consolidating the 2000, 2001, 2002 and 2003 royalty years into a single proceeding. Therefore, from this point forward, any issues regarding the distribution of the 2003 cable royalty funds should be captioned under the consolidated docket, Docket No. 2008-2 CRB CD 2000-2003.

The Judges are consolidating the 2000, 2001, 2002 and 2003 royalty years into a single proceeding. Several parties have informed the Judges that each of these years involves the same single issue regarding the claim of the Canadian Claimants and therefore favor consolidation of these years into one proceeding. Id. Moreover, consolidation allows for resolution of this issue in the most administratively efficient manner.

Petitions To Participate

Petitions to Participate must be filed in accordance with the § 351.1(b) of the Judge's regulations. See 37 CFR 351.1(b). Petitions to Participate submitted by interested parties whose claims do not exceed $1,000 ² must contain a statement that the party will not seek a distribution of more than $1,000. No filing fee is required for these parties. We note, however, that interested parties with claims exceeding one thousand dollars ($1,000) must submit a filing fee of one hundred and fifty dollars ($150) with their Petition to Participate or it will be rejected. Cash will not be accepted; therefore, parties must pay the filing fee with a check or money order made payable to the “Copyright Royalty Board.” If a check is returned for lack of sufficient funds, the corresponding Petition to Participate will be dismissed.

² The Copyright Royalty Judges Program Technical Corrections Act, Public Law No. 109-303, changed the amount from $10,000 to $1,000.

Further procedural matters, including scheduling, will be addressed after Petitions to Participate have been received.

Note that in accordance with 37 CFR 350.2 (Representation), only attorneys who are members of the bar in one or more states and in good standing will be allowed to represent parties before the Copyright Royalty Judges, unless the party is an individual who represents herself or himself.

Dated: March 27, 2008.
James Scott Sledge,
Chief Copyright Royalty Judge.

[FR Doc. E8-6840 Filed 4-1-08; 8:45 am]

BILLING CODE 1410-72-P